DEPARTMENT OF JUSTICE

Foreign Claims Settlement Commission

Program for Adjudication: Commencement of Claims Program

AGENCY: Foreign Claims Settlement Commission of the United States, DOJ.

ACTION: Notice.

SUMMARY: This notice announces the commencement by the Foreign Claims Settlement Commission (“Commission”) of a program for adjudication of certain categories of claims of United States nationals against the Republic of Iraq, as defined below, within the scope of the “Claims Settlement Agreement Between the Government of the United States of America and the Government of the Republic of Iraq,” dated September 2, 2010 (“Claims Settlement Agreement”).

DATES: These claims can now be filed with the Commission and the deadline for filing will be October 23, 2015.

FOR FURTHER INFORMATION CONTACT: Brian M. Simkin, Chief Counsel, Foreign Claims Settlement Commission of the United States, 600 E Street NW., Room 6002, Washington, DC 20579, Tel. (202) 616-6975, FAX (202) 616-6993.

Notice of Commencement of Claims Adjudication Program

Pursuant to the authority conferred upon the Secretary of State and the Commission under subsection 4(a)(1)(C) of Title I of the International Claims Settlement Act of 1949 (Pub. L. 455, 81st Cong., approved March 10, 1950, as amended by Pub. L. 105-277, approved October 21, 1998 (22 U.S.C. 1623(a)(1)(C)), the Foreign Claims Settlement Commission hereby gives notice of the commencement of a program for adjudication of certain categories of claims of United States nationals against the Republic of Iraq. These claims, which have been referred to the Commission by the Department of State by letter dated October 7, 2014, are defined as follows:

Category A: This category shall consist of claims by U.S. nationals for hostage-taking ¹ by Iraq ² in violation of international law prior to October 7, 2004, provided that the claimant was not a plaintiff in pending litigation against Iraq for hostage taking ³ at the time of the entry into force of the Claims Settlement Agreement and has not received compensation under the Claims Settlement Agreement from the U.S. Department of State.

¹ For purposes of this referral, hostage-taking would include unlawful detention by Iraq that resulted in an inability to leave Iraq or Kuwait after Iraq invaded Kuwait on August 2, 1990.

² For purposes of this referral, “Iraq” shall mean the Republic of Iraq, the Government of the Republic of Iraq, any agency or instrumentality of the Republic of Iraq, and any official, employee or agent of the Republic of Iraq acting within the scope of his or her office, employment or agency.

³ For purposes of this category, pending litigation against Iraq for hostage taking refers to the following matters: Acree v. Iraq, D.D.C. 02-cv-00632 and 06-cv-00723, Hill v. Iraq, D.D.C. 99-cv-03346, Vine v. Iraq, D.D.C. 0 l-cv-02674; Seyam (Islamic Society of Wichita) v. Iraq, D.D.C. 03-cv-00888; Simon v. Iraq, D.D.C. 03-cv-00691.

Category B: This category shall consist of claims of U.S. nationals for death while being held hostage by Iraq in violation of international law prior to October 7, 2004.

Category C: This category shall consist of claims of U.S. nationals for any personal injury resulting from physical harm to the claimant caused by Iraq in violation of international law prior to October 7, 2004, provided that the claimant: 1) had pending litigation against Iraq arising out of acts other than hostage taking; 2) has not already been compensated pursuant to the Claims Settlement Agreement; and 3) does not have a valid claim under and has not received compensation pursuant to category B of this referral.

In conformity with the terms of the referral, the Commission will determine the claims in accordance with the provisions of 22 U.S.C. 1621 et seq., which comprises Title I of the International Claims Settlement Act of 1949, as amended. The Commission will then certify to the Secretary of the Treasury those claims that it finds to be valid, for payment out of the claims fund established under the Claims Settlement Agreement.

The Commission will administer this claims adjudication program in accordance with its regulations, which are published in Chapter V of Title 45, Code of Federal Regulations (45 CFR 500 et seq.). In particular, attention is directed to subsection 500.3(a) of these regulations which, based on 22 U.S.C. 1623(f), limits the amount of attorney's fees that may be charged for legal representation before the Commission. These regulations are also available over the Internet at http://www.gpoaccess.gov/cfr/index.html.

Approval has been obtained from the Office of Management and Budget for the collection of this information. Approval No. 1105-0100, expiration date 11/30/2016.

Brian M. Simkin,
Chief Counsel.

[FR Doc. 2014-25152 Filed 10-22-14; 8:45 am]

BILLING CODE 4410-01-P